DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on March 4, 2008. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Contract Services Office, Bureau of Reclamation, PO Box 25007, Denver, Colorado 80225-0007; telephone 303-445-2888.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Used in This Document

BCP Boulder Canyon Project.

Reclamation Bureau of Reclamation.

CAP Central Arizona Project.

CVP Central Valley Project.

CRSP Colorado River Storage Project.

FR Federal Register.

IDD Irrigation and Drainage District.

ID Irrigation District.

M&I Municipal and Industrial.

NMISC New Mexico Interstate Stream Commission.

O&M Operation and Maintenance.

P-SMBP Pick-Sloan Missouri Basin Program.

PPR Present Perfected Right.

RRA Reclamation Reform Act of 1982.

SOD Safety of Dams.

SRPA Small Reclamation Projects Act of 1956.

USACE U.S. Army Corps of Engineers.

WD Water District.

Pacific Northwest Region: Bureau of Reclamation, 1150 North Curtis Road, Suite 100, Boise, Idaho 83706-1234, telephone 208-378-5344.

Completed contract actions:

11. Three irrigation water user entities, Boise Project, Idaho: Amendatory repayment contract with New Union Ditch Company to reduce contract by 500 acre-feet of Lucky Peak Reservoir storage space and new contracts with Wilderness Ranch Owners' Association for 200 acre-feet and with Osprey Subdivision Project Owners' Association for 300 acre-feet of Lucky Peak Reservoir storage space. The contracts have been executed.

12. Six irrigation water user entities, Rogue River Basin Project, Oregon: Long-term contracts for exchange of water service with six entities for the provision of up to 2,634 acre-feet of stored water from Applegate Reservoir (USACE project) for irrigation use in exchange for the transfer of out-of-stream water rights from the Little Applegate River to instream flow rights with the State of Oregon for instream flow use. The contracts have been executed.

Mid-Pacific Region: Bureau of Reclamation, 2800 Cottage Way, Sacramento, California 95825-1898, telephone 916-978-5250.

Modified contract actions:

4. El Dorado County Water Agency, CVP, California: M&I water service contract to supplement existing water supply: Up to 15,000 acre-feet for El Dorado County Water Agency authorized by Pub. L. 101-514. The supply would be subcontracted to El Dorado ID and Georgetown Divide Public Utility District.

7. El Dorado ID, CVP, California: Execution of long-term Warren Act contracts for conveyance of nonproject water (one contract for Weber Reservoir and pre-1914 ditch rights in the amount of 4,560 acre-feet and one contract for Project 184 water in the amount of 17,000 acre-feet). The contracts will allow CVP facilities to be used to convey nonproject water to El Dorado ID for use within its service area.

16. Sacramento Suburban WD, CVP, California: Execution of a long-term Warren Act contract for conveyance of up to 29,000 acre-feet of nonproject water. The contract will allow CVP facilities to be used to convey nonproject water provided from the Placer County Water Agency to Sacramento Suburban WD for use within its service area.

Lower Colorado Region: Bureau of Reclamation, PO Box 61470 (Nevada Highway and Park Street), Boulder City, Nevada 89006-1470, telephone 702-293-8192.

Completed contract actions:

7. All-American Canal, BCP, California: Agreement among Reclamation, Imperial ID, Metropolitan WD, and Coachella Valley WD for the federally funded construction of a reservoir(s) and associated facilities that will improve the regulation and management of Colorado River water. Agreement was executed on December 13, 2007.

13. City of Yuma, BCP, Arizona: Amendment to extend contract to allow for the diversion of water through Yuma Project facilities for an additional term of 10 years. Contract was executed on January 8, 2008.

Upper Colorado Region: Bureau of Reclamation, 125 South State Street, Room 6107, Salt Lake City, Utah 84138-1102, telephone 801-524-3864.

New contract actions:

30. Florida Water Conservancy District, Florida Project, Colorado: The District has requested a long-term water service contract for M&I water from the Florida Project.

31. Strawberry High Line Canal Company, Strawberry Valley Project, Utah: The Company has requested a contract for carriage of nonproject water in Strawberry Valley Project canals.

32. Jordan Valley Water Conservancy District, Metropolitan WD of Salt Lake and Sandy, and others; Provo River Project, Utah: The entities have requested contracts for storage of nonproject water in Deer Creek Reservoir.

Completed contract action:

29. Carlsbad ID and New Mexico Interstate Stream Commission, Carlsbad Project, New Mexico: Contract, for a 5-year term, for the District to perform phreatophyte (Salt Cedar) control and for the Commission to provide annual funding of $150,000. Contract was executed on January 14, 2008.

Great Plains Region: Bureau of Reclamation, PO Box 36900, Federal Building, 316 North 26th Street, Billings, Montana 59101, telephone 406-247-7752.

New contract action:

39. Hanover ID, Boysen Unit, P-SMBP, Wyoming: Request for renewal of their long-term water service contract.

Modified contract actions:

11. Fryingpan-Arkansas Project, Colorado: Consideration of requests for long-term contracts for the use of excess capacity in the Fryingpan-Arkansas Project from the Southeastern Colorado Water Conservancy District and the Colorado Springs Utilities.

36. Turtle Lake ID, Garrison Diversion Unit, North Dakota: Turtle Lake ID, water users, and individual irrigators have requested water service contracts, which may be short- or long-term under the Dakota Water Resources Act of 2000.

Discontinued contract action:

32. Hamlin Construction, Inc., Helena Valley Unit, P-SMBP, Montana: Request for a long-term water service contract for M&I purposes for up to 500 acre-feet per year.

Completed contract actions:

11. Fryingpan-Arkansas Project, Colorado: Consideration of requests for long-term contracts for the use of excess capacity in the Fryingpan-Arkansas Project from the Southeastern Colorado Water Conservancy District, the City of Aurora, and the Colorado Springs Utilities. The contract with the City of Aurora was executed on September 12, 2007.

24. Colorado River Water Conservation District, Ruedi Reservoir, Fryingpan-Arkansas Project, Colorado: Consideration of a request for a second round of water sales or repayment contract from the regulatory capacity of Ruedi Reservoir for up to 5,000 acre-feet annually for M&I uses and also providing water to the endangered fish and supplementing in-stream flows. Contract was executed on December 28, 2007.

33. Richard Davis, Helena Valley Unit, P-SMBP, Montana: Request for a long-term water service contract for M&I purposes for up to 24 acre-feet per year. Contract was executed on January 1, 2008.

Dated: April 8, 2008.
Roseann Gonzales,
Director, Office of Program and Policy Services, Denver Office.

[FR Doc. E8-10347 Filed 5-8-08; 8:45 am]

BILLING CODE 4310-MN-P